DEPARTMENT OF HOMELAND SECURITY

Federal Emergency Management Agency

[Docket ID FEMA-2016-0002]

Final Flood Hazard Determinations

AGENCY: Federal Emergency Management Agency, DHS.

ACTION: Final notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The effective date of September 2, 2016 which has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at www.msc.fema.gov by the effective date indicated above.

FOR FURTHER INFORMATION CONTACT: Rick Sacbibit, Chief, Engineering Services Branch, Federal Insurance and Mitigation Administration, FEMA, 500 C Street SW., Washington, DC 20472, (202) 646-7659, or (email) patrick.sacbibit@fema.dhs.gov; or visit the FEMA Map Information eXchange (FMIX) online at www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at www.msc.fema.gov. The flood hazard determinations are made final in the watersheds and/or communities listed in the table below.

(Catalog of Federal Domestic Assistance No. 97.022, “Flood Insurance.”)

Dated: April 12, 2016.
Roy E. Wright,
Deputy Associate Administrator for Insurance and Mitigation, Department of Homeland Security, Federal Emergency Management Agency.

I. Watershed-based studies:

Community | Community map repository address
Deschutes Watershed
Thurston County, Washington, and Incorporated Areas
Docket No.: FEMA-B-1511
City of Lacey | City Hall—Community Development Department, 420 College Street Southeast, Lacey, WA 98503.
City of Olympia | City Hall, 601 4th Avenue East, Olympia, WA 98501.
City of Rainier | City Hall, 102 Rochester Street, Rainier, WA 98576.
City of Tumwater | City Hall, 555 Israel Road Southwest, Tumwater, WA 98501.
Unincorporated Areas of Thurston County | Thurston County Courthouse, 2000 Lakeridge Drive Southwest, Olympia, WA 98502.
Tug Fork Watershed
Wayne County, West Virginia, and Incorporated Areas
Docket No.: FEMA-B-1523
City of Kenova | Municipal Building, 1501 Pine Street, Kenova, WV 25530.
Town of Ceredo | Town Hall, 700 B Street, Ceredo, WV 25507.
Town of Fort Gay | Town Hall, 3407 Wayne Street, Fort Gay, WV 25514.
Unincorporated Areas of Wayne County | County Courthouse, 700 Hendricks Street, Wayne, WV 25570.

II. Non-watershed-based studies:

Community | Community map repository address
San Bernardino County, California, and Incorporated Areas
Docket No.: FEMA-B-1502
City of Barstow | Engineering Department, 220 East Mountain View Street, Suite A, Barstow, CA 92311.
City of Colton | Public Works Department, 160 South Tenth Street, Colton, CA 92324.
City of Grand Terrace | City Hall, 22795 Barton Road, Grand Terrace, CA 92313.
City of Hesperia | City Hall, 9700 Seventh Avenue, Hesperia, CA 92345.
City of Highland | City Hall, 27215 Base Line Street, Highland, CA 92346.
City of Needles | City Hall, Engineering Department, 817 Third Street, Needles, CA 92363.
City of Ontario | City Hall, Engineering Department Public Counter, 303 East B Street, Ontario, CA 91764.
City of Rancho Cucamonga | City Hall, Engineering Department Plaza Level, 10500 Civic Center Drive, Rancho Cucamonga, CA 91730.
City of Redlands | City Hall, 35 Cajon Street, Redlands, CA 92373.
City of Rialto | City Hall, 150 South Palm Avenue, Rialto, CA 92376.
City of San Bernardino | City Hall, Water Department, 300 North D Street, San Bernardino, CA 92418.
City of Twentynine Palms | City Hall, 6136 Adobe Road, Twentynine Palms, CA 92277.
City of Upland | City Hall, 460 North Euclid Avenue, Upland, CA 91786.
City of Victorville | City Hall, Planning Department, 14343 Civic Drive, Victorville, CA 92393.
Town of Apple Valley | Town Hall, 14955 Dale Evans Parkway, Apple Valley, CA 92307.
Unincorporated Areas of San Bernardino County | Public Works Department, Water Resources Department, 825 East Third Street, San Bernardino, CA 92415.

[FR Doc. 2016-10486 Filed 5-4-16; 8:45 am]

BILLING CODE 9110-12-P